DEPARTMENT OF HEALTH AND HUMAN SERVICES

Centers for Medicare & Medicaid Services

[Document Identifier: CMS-10398 #69]

Medicaid and Children's Health Insurance Program (CHIP) Generic Information Collection Activities: Proposed Collection; Comment Request

AGENCY: Centers for Medicare & Medicaid Services, Health and Human Services (HHS).

ACTION: Notice.

SUMMARY: On May 28, 2010, the Office of Management and Budget (OMB) issued Paperwork Reduction Act (PRA) guidance related to the “generic” clearance process. Generally, this is an expedited process by which agencies may obtain OMB's approval of collection of information requests that are “usually voluntary, low-burden, and uncontroversial collections,” do not raise any substantive or policy issues, and do not require policy or methodological review. The process requires the submission of an overarching plan that defines the scope of the individual collections that would fall under its umbrella. On October 23, 2011, OMB approved our initial request to use the generic clearance process under control number 0938-1148 (CMS-10398). It was last approved on April 26, 2021, via the standard PRA process which included the publication of 60- and 30-day Federal Register notices. The scope of the April 2021 umbrella accounts for Medicaid and CHIP State plan amendments, waivers, demonstrations, and reporting. This Federal Register notice seeks public comment on one or more of our collection of information requests that we believe are generic and fall within the scope of the umbrella. Interested persons are invited to submit comments regarding our burden estimates or any other aspect of this collection of information, including: The necessity and utility of the proposed information collection for the proper performance of the agency's functions, the accuracy of the estimated burden, ways to enhance the quality, utility and clarity of the information to be collected, and the use of automated collection techniques or other forms of information technology to minimize the information collection burden.

DATES: Comments must be received by June 3, 2021.

ADDRESSES: When commenting, please reference the applicable form number (see below) and the OMB control number (0938-1148). To be assured consideration, comments and recommendations must be submitted in any one of the following ways:

1. Electronically. You may send your comments electronically to http://www.regulations.gov. Follow the instructions for “Comment or Submission” or “More Search Options” to find the information collection document(s) that are accepting comments.

2. By regular mail. You may mail written comments to the following address:

CMS, Office of Strategic Operations and Regulatory Affairs, Division of Regulations Development, Attention: CMS-10398 (#69)/OMB control number: 0938-1148, Room C4-26-05, 7500 Security Boulevard, Baltimore, Maryland 21244-1850.

To obtain copies of a supporting statement and any related forms for the proposed collection(s) summarized in this notice, you may access CMS' website at https://www.cms.gov/Regulations-and-Guidance/Legislation/PaperworkReductionActof1995/PRA-Listing.html.

FOR FURTHER INFORMATION CONTACT: William N. Parham at (410) 786-4669.

SUPPLEMENTARY INFORMATION: Following is a summary of the use and burden associated with the subject information collection(s). More detailed information can be found in the collection's supporting statement and associated materials (see ADDRESSES).

Generic Information Collection

1. Title of Information Collection: Reporting Requirements for Additional Funding for Medicaid HCBS During the COVID-19 Emergency; Type of Information Collection Request: New collection; Use: CMS is responsible for ensuring that states receiving the temporary 10 percentage point increase comply with the statutory requirements specified in Section 9817 of the American Rescue Plan Act of 2021 (Pub. L. 117-2). To do so, CMS released a State Medicaid Director Letter (SMDL) that specifies the information that states must report to CMS in order to receive the temporary 10 percentage point increase. Participating states are required to submit initial and quarterly HCBS (home and community-based services) spending plans and narratives to CMS to report how the additional funding will be expended on activities that the state has implemented and/or intends to implement to enhance, expand, or strengthen HCBS to demonstrate that the state is supplementing, but not supplanting, existing state funds expended for Medicaid HCBS.

To ensure maximum state flexibility and to reduce the reporting burden on states as much as possible, states will submit spending plans and narratives in their own preferred format. CMS will not require states to use a standardized template or form. Instead, the SMDL details the minimum reporting requirements in full. The SMDL stipulates that in order to receive the additional funding available under Section 9817, states must initially submit the following via email within 30 days of the release of the SMDL:

• Initial HCBS Spending Plan Projection: State estimates of the total amount of funds attributable to the increase in FMAP that the state anticipates claiming between April 1, 2021 and March 31, 2022, as well as the anticipated expenditures for the activities the state intends to implement to enhance, expand, or strengthen HBCS under the state Medicaid program between April 1, 2021 and March 31, 2024.

• Initial HCBS Spending Narrative: Information on the state's required section 9817 activities and the connection between the spending plan projection and the scope of the activities. States must provide sufficient detail to affirm that the state's activities enhance, expand, or strengthen HCBS under the state Medicaid program.

States must then submit a quarterly HCBS spending plan and narrative for CMS review and approval; states may update their initial spending plan submissions through the quarterly spending plan submissions. States must report on a quarterly basis until funds are expended. As part of the reporting cycle, there are two documents to be submitted:

• Quarterly HCBS Spending Plan: State estimate the total amount of funds attributable to the increase in FMAP that the state has claimed and/or anticipates claiming between April 1, 2021 and March 31, 2022, as well as anticipated and/or actual expenditures for the state's activities to implement, to enhance, expand, or strengthen HBCS under the state Medicaid program between April 1, 2021, and March 31, 2024.

• Quarterly HCBS Spending Narrative: Similar to the narrative that was submitted with the initial HCBS spending plan, this is a shorter narrative to provide activity updates. A state may also choose to provide information on activity outcomes, lessons learned, challenges, or any other information that the state deems as relevant and important to advancing HCBS.

When submitting the initial and quarterly HCBS spending plan and narrative, the designated state point of contact should attest to the following via email:

• The state is not imposing stricter eligibility standards, methodologies, or procedures for HCBS programs and services than were in place on April 1, 2021;

• The state is preserving covered HCBS, including the services themselves and the amount, duration, and scope of those services, in effect as of April 1, 2021; and

• The state is maintaining provider payments at a rate no less than those in place as of April 1, 2021. Form Number: CMS-10398 (#69) (OMB control number: 0938-1148); Frequency: Once, quarterly, and on occasion; Affected Public: State, Local, or Tribal Governments; Number of Respondents: 56; Total Annual Responses: 616; Total Annual Hours: 1,344. (For policy questions regarding this collection contact Ryan Shannahan at 410-786-0295.)

Dated: May 14, 2021.
William N. Parham, III,
Director, Paperwork Reduction Staff, Office of Strategic Operations and Regulatory Affairs.

[FR Doc. 2021-10574 Filed 5-19-21; 8:45 am]

BILLING CODE 4120-01-P